FEDERAL DEPOSIT INSURANCE CORPORATION

[OMB Nos. 3064-0115 and 3064-0197]

Agency Information Collection Activities: Submission for OMB Review; Comment Request

AGENCY: Federal Deposit Insurance Corporation (FDIC).

ACTION: Notice and request for comment.

SUMMARY: The FDIC, as part of its continuing effort to reduce paperwork and respondent burden, invites the general public and other Federal agencies to take this opportunity to comment on the renewal of the existing information collections, as required by the Paperwork Reduction Act of 1995. On December 29, 2017, the FDIC requested comment for 60 days on a proposal to renew the information collections described below. One comment was received for each information collection described below. Each was generally supportive of the requirements set forth in the respective rules but did not address the paperwork burden for the information collections. The FDIC hereby gives notice of its plan to submit to OMB a request to approve the renewal of these collections, and again invites comment on these renewals.

DATES: Comments must be submitted on or before May 21, 2018.

ADDRESSES: Interested parties are invited to submit written comments to the FDIC by any of the following methods:

• Agency website: https://www.FDIC.gov/regulations/laws/federal. Follow instructions for submitting comments on the Agency website.

• Email: comments@fdic.gov. Include the name and number of the collection in the subject line of the message.

• Mail: Jennifer Jones, 202-898-6768, Counsel, MB-3105, Federal Deposit Insurance Corporation, 550 17th Street NW, Washington, DC 20429.

• Hand Delivery: Comments may be hand-delivered to the guard station at the rear of the 17th Street Building (located on F Street), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Jennifer Jones, 202-898-6768, jennjones@FDIC.gov, Counsel, MB-3105, Federal Deposit Insurance Corporation, 550 17th Street NW, Washington, DC 20429.

SUPPLEMENTARY INFORMATION: On December 29, 2017, the FDIC requested comment for 60 days on a proposal to renew the information collections described below. One comment was received for each information collection described below. Each was generally supportive of the requirements set forth in the respective rules but did not address the paperwork burden for the information collections. The FDIC hereby gives notice of its plan to submit to OMB a request to approve the renewal of these collections, and again invites comment on these renewals.

Proposal to renew the following currently approved collections of information:

1. Title: Prompt Corrective Action.

OMB Number: 3064-0115.

Form Number: None.

Affected Public: State non-member banks and savings associations.

Burden Estimate:

Summary of Annual Burden
| Type of burden | Obligation to respond | Estimated number of respondents | Estimated frequency of responses | Estimated time per response | Frequency of response | Total annual estimated burden (hours)
Prompt Corrective Action (12 CFR parts 303, 324, and 390) | Reporting | Voluntary | 17 | 1 | 4 | On occasion | 68
Total Hourly Burden |  |  |  |  |  |  | 68

General Description of Collection: The Prompt Corrective Action (PCA) provisions of section 38 of the Federal Deposit Insurance Act require or permit the FDIC and other federal banking agencies to take certain supervisory actions when FDIC-insured institutions fall within certain capital categories. They also restrict or prohibit certain activities and require the submission of a capital restoration plan when an insured institution becomes undercapitalized. Various provisions of the statute and the FDIC's implementing regulations require the prior approval of the FDIC before an FDIC-supervised institution, or certain insured depository institutions, can engage in certain activities, or allow the FDIC to make exceptions to restrictions that would otherwise be imposed. This collection of information consists of the applications that are required to obtain the FDIC's prior approval to engage in these activities.

There is no change in the method or substance of the collection. The overall reduction in burden hours is the result of economic fluctuation. In particular, the number of respondents has decreased while the hours per response and frequency of responses have remained the same.

2. Title: Liquidity Coverage Ratio: Liquidity Risk Measurement, Standards, and Monitoring (LCR).

OMB Number: 3064-0197.

Form Number: None.

Affected Public: State savings associations and State nonmember banks that (i) have total consolidated assets equal to $250 billion or more; (ii) have total consolidated on-balance sheet foreign exposure equal to $10 billion or more; or (iii) have total consolidated assets equal to $10 billion or more and are a consolidated subsidiary of one of the following: (A) A covered depository institution holding company or depository institution that has total assets equal to $250 billion or more; (B) a covered depository institution holding company or depository institution that has total consolidated on-balance sheet foreign exposure equal to $10 billion or more; or (C) a company that has been designated by the Financial Stability Oversight Council for supervision by the Board of Governors of the Federal Reserve System.

Burden Estimate:

Summary of Annual Burden
| Type of burden | Obligation to respond | Estimated number of respondents | Estimated frequency of responses | Estimated time per response | Frequency of response | Total annual estimated burden (hours)
Liquidity Coverage Ratio (LCR)—12 CFR 329.40(a), (b) | Reporting | Mandatory
§ 329.40(a) Notification that liquidity coverage ratio is less than minimum in § 329.10 | Reporting | Mandatory | 2 | 12 | 0.25 | On Occasion | 6
§ 329.40(b) Notification that liquidity coverage ratio is less than minimum in § 329.10 for 3 consecutive days or otherwise noncompliant | Reporting | Mandatory | 2 | 1 | 0.25 | On Occasion | 0.50
§ 329.40(b) Plan for achieving compliance | Recordkeeping | Mandatory | 2 | 1 | 100.00 | On Occasion | 200
§ 329.40(b)(4) Weekly report of progress toward achieving compliance | Reporting | Mandatory | 2 | 4 | 0.25 | On Occasion | 2
Liquidity Coverage Ratio (LCR)—12 CFR 329.22(a)(2), (5) | Recordkeeping | Mandatory
§ 329.22(a)(2) Policies that require eligible HQLA to be under control of liquidity risk management function | Recordkeeping | Mandatory | 2 | 1 | 10.00 | On Occasion | 20
§ 329.22(a)(5) Documented methodology providing consistent treatment for determining whether eligible HQLA meets operational requirements | Recordkeeping | Mandatory | 2 | 1 | 10.00 | On Occasion | 20
Total Hourly Burden |  |  |  |  |  |  | 248.50

General Description of Collection: The LCR rule implements a quantitative liquidity requirement and contains requirements subject to the PRA. The reporting and recordkeeping requirements are found in Sections 329.22 and 329.40. The requirement is designed to promote the short-term resilience of the liquidity risk profile of large and internationally active banking organizations, thereby improving the banking sector's ability to absorb shocks arising from financial and economic stress, and to further improve the measurement and management of liquidity risk. The LCR rule establishes a quantitative minimum liquidity coverage ratio that requires a company subject to the rule to maintain an amount of high-quality liquid assets (the numerator of the ratio) that is no less than 100 percent of its total net cash outflows over a prospective 30 calendar-day period (the denominator of the ratio).

The FDIC has reviewed its previous PRA submission and has updated its methodology for calculating the burden in order to be consistent with the Office of the Comptroller of the Currency and the Board of Governors of the Federal Reserve System. The overall increase in burden hours is the result of these changes.

Request for Comment

Comments are invited on: (a) Whether the collections of information are necessary for the proper performance of the FDIC's functions, including whether the information has practical utility; (b) the accuracy of the estimates of the burden of the information collections, including the validity of the methodology and assumptions used; (c) ways to enhance the quality, utility, and clarity of the information to be collected; and (d) ways to minimize the burden of the collections of information on respondents, including through the use of automated collection techniques or other forms of information technology. All comments will become a matter of public record.

Dated at Washington, DC, on March 16, 2018.
Federal Deposit Insurance Corporation.
Robert E. Feldman,
Executive Secretary.

[FR Doc. 2018-05711 Filed 3-20-18; 8:45 am]

BILLING CODE 6714-01-P